DEPARTMENT OF JUSTICE

Office on Violence Against Women; Notice of Establishment

AGENCY: Office on Violence Against Women, Justice.

ACTION: Notice of establishment.

SUMMARY: This notice sets forth the establishment of the Violence Against Women in Indian Country Task Force (hereinafter “the Task Force”).

SUPPLEMENTARY INFORMATION: The Department of Justice hereby gives notice of establishment of the Violence Against Women in Indian Country Task Force, a statutorily mandated Federal Advisory Committee. The Attorney General has established the Task Force pursuant to the requirements of section 904 of the Violence Against Women and Department of Justice Reauthorization Act of 2005 (VAWA 2005), Public Law 109-162.

The Task Force will advise the National Institute of Justice and the Office on Violence Against Women regarding the development and implementation of a program of research on violence against Indian women, including domestic violence, dating violence, sexual assault, stalking, and murder.

As required by the VAWA 2005, the Task Force is composed of members representing national tribal domestic violence and sexual assault organizations, tribal governments, and national tribal organizations. The Task Force will function solely as an advisory body in compliance with the provisions of the Federal Advisory Committee Act. Its charter will be filed in accordance with the provisions of the Act. The Attorney General, through the Director of the Office on Violence Against Women, has appointed the following members to serve on the Task Force:

Ms. Karen Artichoker, Director of Administration and Shelter Services, Cangleska, Inc., Pine Ridge, South Dakota;

Ms. Jacqueline Agtuca, Director of Public Policy, Clan Star, Inc., San Francisco, California;

Ms. Jolanda Ingram, Director, Niwhongwhxw STOP the Violence Coalition, Hoopa, California;

The Honorable Billy Jo (“BJ”) Jones, Director, Northern Plains Tribal Judicial Training Institute, Chief Judge, Sisseton-Wahpeton Tribe, Rapid City, South Dakota;

Ms. Cheryl Neskahi Coan, Director of Training, Southwest Center for Law & Policy, Tucson, Arizona;

Ms. Shannon Cozzoni, First Assistant Attorney General, Muscogee (Creek) Nation, Okmulgee, Oklahoma;

Ms. Vikki Shirley, First Lady, Navajo Nation, Window Rock, Arizona;

Ms. Lori Jump, Program Manager, Advocacy Resource Center, Sault Ste. Marie Tribe of Chippewa Indians Victim Services Program, Sault Ste. Marie, Michigan;

Ms. Denise Morris, President and Chief Executive Officer, Alaska Native Justice Center, Inc., Anchorage, Alaska;

Mr. Arlen Quetawki, Zuni Pueblo Law Enforcement Consultant, Pueblo of Zuni, New Mexico;

Ms. Patricia Megeshick, Program Director, Ft. Peck Family Violence Resource Center, Poplar, Montana;

Ms. Bernadette LaSarte, Program Director, Couer d'Alene Tribal Domestic Violence Program, Plummer, Idaho;

Ms. Nancy Soctomah, Project Coordinator, Peaceful Relations Domestic Violence Response Program, Pleasant Point Reservation, Maine;

Senator Theresa Two Bulls, Senator, South Dakota Senate, Oglala Sioux tribal prosecutor, Pine Ridge, South Dakota;

Ms. Virginia Davis, Associate Counsel, National Congress of American Indians, Washington, DC.;

Ms. Pamela Iron, Executive Director, National Indian Women's Health Resource Center, Tulsa, Oklahoma;

Mr. Dana Grey Jim, Staff Attorney, Cherokee Nation, Secretary, Oklahoma Indian Bar Association, Tahlequah, Oklahoma.

Dated: April 23, 2008.
Cindy Dyer,
Director, Office on Violence Against Women.

[FR Doc. E8-9576 Filed 4-30-08; 8:45 am]

BILLING CODE 4410-FX-P